FEDERAL COMMUNICATIONS COMMISSION

47 CFR Part 73

[MB Docket No. 09-52; Report No. 2940]

Policies To Promote Rural Radio Service and To Streamline Allotment and Assignment Procedures; Petition for Reconsideration of Action of Rulemaking Proceeding

AGENCY: Federal Communications Commission.

ACTION: Final rule; petition for reconsideration.

SUMMARY: In this document, Petitions for Reconsideration (Petitions) have been filed in the Commission's Rulemaking proceeding concerning new procedures for evaluating mutually exclusive proposals for radio service, as well as for applications to change a station's community of license. The Commission adopted these procedural changes to promote the initiation and retention of radio service in and to smaller communities and rural areas.

DATES: Oppositions to the Petitions must be filed by January 5, 2012. Replies to an opposition must be filed January 17, 2012.

ADDRESSES: Federal Communications Commission, 445 12th Street SW., Washington, DC 20554.

FOR FURTHER INFORMATION CONTACT: Peter Doyle or Thomas Nessinger, Media Bureau, (202) 418-2700.

SUPPLEMENTARY INFORMATION: This is a summary of Commission's document, Report No. 2940, released December 12, 2011. The full text of this document is available for viewing and copying in Room CY-B402, 445 12th Street SW., Washington, DC or may be purchased from the Commission's copy contractor, Best Copy and Printing, Inc. (BCPI) 1-(800) 378-3160. The Commission will not send a copy of this Notice pursuant to the Congressional Review Act, 5 U.S.C. 801(a)(1)(A), because this Notice does not have an impact on any rules of particular applicability.

Subject: In the Matter of Policies to Promote Rural Radio Service and to Streamline Allotment and Assignment Procedures published at 76 FR 18942, April 6, 2011, in MB Docket No. 09-52, and published pursuant to 47 CFR 1.429(e). See 1.4(b)(1) of the Commission's rules (47 CFR 1.4(b)(1)).

Number of Petitions Filed: 6.

Federal Communications Commission.
Marlene H. Dortch,
Secretary, Office of the Secretary, Office of Managing Director.

[FR Doc. 2011-32554 Filed 12-20-11; 8:45 am]

BILLING CODE 6712-01-P